DEPARTMENT OF AGRICULTURE

Natural Resources Conservation Service

7 CFR Part 657

Prime and Unique Farmlands—Important Farmlands Inventory

AGENCY: Natural Resources Conservation Service, Agriculture.

ACTION: Final rule.

SUMMARY: The Natural Resources Conservation Service is amending its regulations regarding responsibilities for conducting important farmland inventories under the Federal Crop Insurance Reform and Department of Agriculture Reorganization Act of 1994 (the 1994 Act). The amendments reflect changes to individual and organizational titles made since the regulations were originally drafted.

EFFECTIVE DATE: September 25, 2000.

FOR FURTHER INFORMATION CONTACT: Horace Smith, Division Director, Soil Survey Division, Natural Resources Conservation Service, P.O. Box 2890, Washington, D.C. 20013; 202-720-1820.

SUPPLEMENTARY INFORMATION: This final rule makes corrections to nomenclature in the regulations for conducting important farmland inventories (7 CFR Part 657, Subpart A.) Since the implementing legislation was passed, the names of the offices and titles of officials charged with conducting important farmland inventories have changed. This amendment reflects those changes. In addition, this rule amends the authority citation to clarify the list of statutory authorities for the inventories.

These rules are not expected to have significant economic impact under the criteria of the Regulatory Flexibility Act. They will not impose information collection requirements under the provisions of the Paperwork Reduction Act of 1980, 44 U.S.C. Chapter 35.

List of Subjects in 7 CFR Part 657

Farmlands.

For the reasons set forth above, Subpart A, Part 657 of Chapter VI of Title 7 of the Code of Federal Regulations is amended as follows:

PART 657—PRIME AND UNIQUE FARMLAND

Subpart A—Important Farmlands Inventory

1. The authority citation for Subpart A, Part 657 is revised to read as follows:

Authority: 7 U.S.C. 1010a; 16 U.S.C. 590a-590f; 42 U.S.C. 3271-3274.

§ 657.4 [Amended]

2. Section 657.4(a)(3)(iii) is amended by revising “NRCS Technical Service Centers (TSC's). (See 7 600.3, 600.6)” to read “National Soil Survey Center. (see 7 CFR 600.2(c), 600.6)”.

3. Section 657.4(a)(4) is amended by revising the first sentence to read as follows: “Coordinate soil mapping units that qualify as prime farmlands with adjacent States, including Major Land Resource Area Offices (see 7 CFR 600.4, 600.7) responsible for the soil series.”

4. Section 657.4(a)(6) is amended by revising “Administrator” to read “Chief”.

5. Section 657.4(b) is amended by revising the heading and the first sentence to read as follows: “National Soil Survey Center. The National Soil Survey Center is to provide requested technical assistance to State Conservationists and Major Land Resource Area Offices in inventorying prime and unique farmlands (see 7 CFR 600.2(c)(1), 600.4, 600.7).”

6. Section 657.4(c) is amended by revising “Assistant Administrator for Field Services (See 7 CFR 600.2)” to read “Deputy Chief for Soil Survey and Resource Assessment (see 7 CFR 600.2(b)(3))”.

Signed in Washington, D.C. on September 14, 2000.
Pearlie S. Reed,
Chief.

[FR Doc. 00-24525 Filed 9-22-00; 8:45 am]

BILLING CODE 3410-16-P